ENVIRONMENTAL PROTECTION AGENCY

[FRL-9926-12-Region-1]

Proposed CERCLA Administrative Settlement Agreement and Order on Consent for Removal Action: Former Synergy Site, Claremont, New Hampshire

AGENCY: Environmental Protection Agency (EPA).

ACTION: Notice of proposed settlement; request for public comments.

SUMMARY: Notice is hereby given of a proposed administrative settlement agreement and order on consent for conducting removal action at the Former Synergy Superfund Site in Claremont, New Hampshire with the settling party, AmeriGas Propane, L.P. The proposed settlement calls for AmeriGas Propane, L.P. to conduct the removal action and allows the settling party to submit a claim(s) for reimbursement to the Hazardous Substance Superfund (“Fund”) for its necessary costs incurred in completing the removal action, but in no event shall settling party's total claim(s) against the Fund under the proposed settlement exceed the sum of $1,500,000; any costs incurred beyond this sum shall be assumed by AmeriGas Propane, L.P. In addition to conducting the removal action, AmeriGas Propane, L.P. will create a contingency fund of $75,000 for the City of Claremont, New Hampshire to use for future contingencies related to the site. In exchange, EPA will provide AmeriGas Propane, L.P. with a covenant not to sue or take administrative action against it, or its related corporate entities for the work and future response costs incurred at the site. The settlement has been approved by the Environmental and Natural Resources Division of the United States Department of Justice. For 30 days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by May 13, 2015.

ADDRESSES: Comments should be addressed to RuthAnn Sherman, Senior Enforcement Counsel, U.S. Environmental Protection Agency, 5 Post Office Square, Suite 100 (OES04-2), Boston, MA 02109-3912 (Telephone No. 617-918-1886) and should refer to: In re: Former Synergy Superfund Site, U.S. EPA Docket No: 01-2015-0027.

FOR FURTHER INFORMATION CONTACT: A copy of the proposed settlement may be obtained from RuthAnn Sherman, Senior Enforcement Counsel, U.S. Environmental Protection Agency, 5 Post Office Square, Suite 100 (OES04-2), Boston, MA 02109-3912; (617) 918-1886; Sherman.ruthann@epa.gov.

SUPPLEMENTARY INFORMATION: Pursuant to sections 111(a)(2), 112, and 122(b)(1) of the Comprehensive Environmental Response Compensation, and Liability Act (CERCLA), 42 U.S.C. 9611(a)(2), 9612, and 9622(b)(1), in this proposed administrative settlement agreement and order on consent for removal action concerning the Former Synergy Superfund Site in Claremont, New Hampshire, the settling party, AmeriGas Propane, L.P. may submit a claim for reimbursement to the Hazardous Substance Superfund for its necessary costs incurred in completing the removal action, but in no event shall settling party's total claim(s) against the Fund under the proposed settlement exceed the sum of $1,500,000. EPA's total contribution will be no more than $1,500,000; any costs incurred beyond this sum shall be assumed by AmeriGas Propane L.P. In addition to conducting the removal action, the settling party shall create a contingency fund of $75,000 to the City of Claremont, New Hampshire to provide for future contingencies related to the site. In exchange, EPA will provide AmeriGas Propane, L.P. with a covenant not to sue or take administrative action against it, or its related corporate entities, under sections 106 and 107(a) of the Comprehensive Environmental Response Compensation, and Liability Act for the work and future response costs incurred at the site. The settlement has been approved by the Environmental and Natural Resources Division of the United States Department of Justice.

Dated: April 1, 2015.
Nancy Barmakian,
Acting Director, Office of Site Remediation and Restoration.

[FR Doc. 2015-08429 Filed 4-10-15; 8:45 am]

BILLING CODE 6560-50-P